ENVIRONMENTAL PROTECTION AGENCY

40 CFR Part 300

[EPA-HQ-SFUND-1986-0005; FRL-8271-2]

National Oil and Hazardous Substance Pollution Contingency Plan; National Priorities List

AGENCY: Environmental Protection Agency (EPA).

ACTION: Direct final notice of deletion of the Avenue E Groundwater Contamination Superfund Site from the National Priorities List.

SUMMARY: The Environmental Protection Agency (EPA), Region V is publishing a direct final notice of deletion of the Avenue E Groundwater Contamination Superfund Site (Site), located in Traverse City, Michigan from the National Priorities List (NPL). The NPL, promulgated pursuant to section 105 of the Comprehensive Environmental Response, Compensation, and Liability Act (CERCLA) of 1980, as amended, is appendix B of 40 CFR part 300, which is the National Oil and Hazardous Substances Pollution Contingency Plan (NCP). This direct final deletion is being published by EPA with the concurrence of the State of Michigan, through the Michigan Department of Environmental Quality (MDEQ), because EPA has determined that all appropriate response actions under CERCLA have been completed, and, therefore, further remedial action pursuant to CERCLA is not necessary at this time.

DATES: This direct final notice of deletion will be effective March 20, 2007 unless EPA receives adverse comments by February 20, 2007. If adverse comments are received, EPA will publish a timely withdrawal of the direct final notice of deletion in the Federal Register informing the public that the deletion will not take effect.

ADDRESSES: Submit your comments, identified by Docket ID No. EPA-HQ-SFUND-1986-0005 by one of the following methods:

• http://www.regulations.gov: Follow the on-line instructions for submitting comments.

• E-mail: beard.gladys@epa.gov.

• Fax: Gladys Beard at (312) 886-4071.

• Mail: Dave Novak, Community Involvement Coordinator, U.S. EPA (P-19J), 77 W. Jackson, Chicago, Il 60604, 312-886-0269 or 1-800-621-8431.

• Hand Delivery: Dave Novak, Community Involvement Coordinator, (P-19J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Instructions: Direct your comments to Docket ID No. EPA-HQ-SFUND-1986-0005. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Superfund Division, 77 West Jackson Boulevard, Chicago, Illinois 60604. This Facility is open from 8:30 a.m. to 4:30 p.m., Monday through Friday, excluding legal holidays. We recommend that you telephone Gladys Beard, State NPL Deletion Process Manager at (312) 886-7253, before visiting the Region 5 office.

Information Repositories: Comprehensive information about the Site is available for viewing and copying at the Site information repositories located at: EPA Region V Record Center, 77 W. Jackson, Chicago, Il 60604, (312) 353-5821, Monday through Friday 8:30 a.m. to 4:30 p.m.

FOR FURTHER INFORMATION CONTACT: Linda Martin, Remedial Project Manager at (312) 886-3854, Martin.Lindab@epa.gov or Gladys Beard, State NPL Deletion Process Manager at (312) 886-7253, Beard.Gladys@epa.gov or 1-800-621-8431, (SR-6J), U.S. EPA Region V, 77 W. Jackson, Chicago, IL 60604.

SUPPLEMENTARY INFORMATION:

Table of Contents

I. Introduction

II. NPL Deletion Criteria

III. Deletion Procedures

IV. Basis for Site Deletion

V. Deletion Action

I. Introduction

EPA Region V is publishing this direct final notice of deletion of the Avenue E Groundwater Contamination Superfund Site from the NPL. The EPA identifies sites that appear to present a significant risk to public health or the environment and maintains the NPL as the list of those sites. As described in section 300.425(e)(3) of the NCP, sites deleted from the NPL remain eligible for remedial actions if conditions at a deleted site warrant such action.

Because EPA considers this action to be non-controversial and routine, EPA is taking it without prior publication of a notice of intent to delete. This action will be effective March 20, 2007 unless EPA receives adverse comments by February 20, 2007 on this document. If adverse comments are received within the 30-day public comment period on this document, EPA will publish a timely withdrawal of this direct final deletion before the effective date of the deletion and the deletion will not take effect. EPA will, as appropriate, prepare a response to comments and continue with the deletion process on the basis of the notice of intent to delete and the comments already received. There will be no additional opportunity to comment.

Section II of this document explains the criteria for deleting sites from the NPL. Section III discusses procedures that EPA is using for this action. Section IV discusses the Avenue E Groundwater Superfund Site and demonstrates how it meets the deletion criteria. Section V discusses EPA's action to delete the Site from the NPL unless adverse comments are received during the public comment period.

II. NPL Deletion Criteria

Section 300.425(e) of the NCP provides that releases may be deleted from the NPL where no further response is appropriate. In making a determination to delete a release from the NPL, EPA shall consider, in consultation with the State, whether any of the following criteria have been met:

i. Responsible parties or other persons have implemented all appropriate response actions required;

ii. All appropriate Fund-financed (Hazardous Substance Superfund Response Trust Fund) responses under CERCLA have been implemented, and no further response action by responsible parties is appropriate; or

iii. The remedial investigation has shown that the release poses no significant threat to public health or the environment and, therefore, the taking of remedial measures is not appropriate.

Even if a site is deleted from the NPL, where hazardous substances, pollutants, or contaminants remain at the deleted site above levels that allow for unlimited use and unrestricted exposure, CERCLA section 121(c), 42 U.S.C. 9621(c), requires that a subsequent review of the site be conducted at least every five years after the initiation of the remedial action at the deleted site to ensure that the action remains protective of public health and the environment. If new information becomes available which indicates a need for further action, EPA may initiate remedial actions. Whenever there is a significant release from a site deleted from the NPL, the deleted site may be restored to the NPL without application of the hazard ranking system.

III. Deletion Procedures

The following procedures apply to deletion of this Site:

(1) The EPA consulted with the State of Michigan on the deletion of the Site from the NPL prior to developing this direct final notice of deletion.

(2) Michigan concurred with deletion of the Site from the NPL.

(3) Concurrently with the publication of this direct final notice of deletion a notice of intent to delete is published today in the “Proposed Rules” section of the Federal Register, is being published in a major local newspaper of general circulation at or near the Site, and is being distributed to appropriate federal, state, and local government officials and other interested parties. The newspaper notice announces the 30-day public comment period concerning the notice of intent to delete the Site from the NPL.

(4) The EPA placed copies of documents supporting the deletion in the site information repositories identified above.

(5) If adverse comments are received within the 30-day public comment period on this document, EPA will publish a timely notice of withdrawal of this direct final notice of deletion before its effective date and will prepare a response to comments and continue with a decision on the deletion based on the notice of intent to delete and the comments already received.

Deletion of a site from the NPL does not itself create, alter, or revoke any individual's rights or obligations. Deletion of a site from the NPL does not in any way alter EPA's right to take enforcement actions, as appropriate. The NPL is designed primarily for informational purposes and to assist EPA management. Section 300.425(e)(3) of the NCP states that the deletion of a site from the NPL does not preclude eligibility for future response actions should future conditions warrant such actions.

IV. Basis for Site Deletion

The remedy at the Avenue E Site was found to be protective of human health and the environment. This determination was documented in the five year review conducted in 2005. All groundwater contaminants associated with the Coast Guard facility have reached the clean up standards specified in the 1987 agreement between the Coast Guard and the State of Michigan. All active remediation has been completed and no further actions are required for this Site. The following sections outline additional information reviewed as part of an NPL deletion determination.

Site Location

The Avenue E Groundwater Contamination Superfund Site was a groundwater contamination plume located in East Bay Township in Traverse County, Traverse City, Michigan. The source of the contamination was located on the U.S. Coast Guard (USCG) Air Station. The plume was located west of the intersection of Parsons Road and Aero Park Drive. It was traced to the northwest corner of an industrial park back lot located southwest of Nish-Nah-Bee Industries. The plume eventually extended to the East Arm of the Grand Traverse Bay.

Site History

In 1980, residents of Avenue E in East Bay Township complained of odors and foaming in their well water. Subsequent investigation by the Michigan Department of Public Health (MDPH) and the Michigan Department of Natural Resources (MDNR) revealed the existence of a plume of contamination in the underlying aquifer. The plume consisted primarily of hydrocarbons found in petroleum distillates, including benzene and toluene, and some solvents.

Removal Actions Performed

On June 10, 1982, members of the USCG District 9 air station met with Region V removal staff to discuss the possibilities and procedures for receiving CERCLA funds to pay for the connection of the homes within the Avenue E area of concern to the existing public water supply system while the USCG conducted a hydrogeologic investigation to further determine the source of contamination identified by MDNR and MDPH. According to the On Scene Coordinator's (OSC) report, the USCG could not pay for such connections without knowing their extent of responsibility. The Coast Guard agreed to enter into a Memorandum of Understanding (MOU) with USEPA assuring to reimburse the Agency for all costs incurred for the connections should the USCG be found to be the responsible party. USEPA then proceeded with the removal action and all home connections to the existing public water supply were completed on December 12, 1982. A total of 59 homes received city water with nine home owners declining to receive full hookups. A total of 67 homes received some level of service from this action. The total cost reimbursed by the USCG to USEPA was $137,540. Although not all residents received full hookups to the public water supply system, the plume associated with the Coast Guard property no longer exists and therefore would indicate that no risk currently exists to those not fully connected to the public water supply from the contamination associated with the Coast Guard property.

Remedial Investigation and Feasibility Study (RI/FS)

Groundwater

The first investigation of the site was conducted by the MDNR in 1982. The State Agency's study objectives were to locate and delineate the contaminant plume, identify and determine the distribution of its component parts and locate the probable source area of the plume. The MDNR drilled 24 wells and two auger holes along Parsons Road and around the lots of Jacklyn Steel and Nish-Nah-Bee Industries.

As a result of this investigation, the MDNR determined that the USCG Air Station property was part of the suspected source area. The USCG contracted with the United States Geological Service (USGS) in July 1982 to undertake a study of the area's hydrogeologic conditions. Objectives of this study were:

(1) To determine the rate and direction of groundwater flow;

(2) locate the source or sources of contaminants;

(3) determine the extent and distribution of contaminants;

(4) evaluate hydrologically suitable locations for installing purge wells should that be necessary.

The USCG installed a total of 138 wells on the Coast Guard property, up and down gradient of the base in and around the industrial areas and residential area. Five wells were installed to conduct a pump test for determining aquifer characteristics.

At the request of the USCG, a team from the University of Michigan conducted a study of the site from February through August 1984. Building on the data and results given in the USCG report, the study was to be complementary to the USCG effort. By providing data and analysis on the time variation of contaminants, the effect of soil adsorptive characteristics on contaminant distribution and movement, and the potential risk posed by the contamination to public health, probable contaminant sources could be determined and remedial action alternatives developed.

A total of 24 wells including 15 existing and nine new wells were selected for analysis based on previous information. These wells were sampled six times at 21-day intervals. Statistical analysis was performed on the data and various data plots were generated. This information was used to provide supporting information for developing response alternatives. A preliminary risk assessment was made for the various chemical components found in the plume. A contaminant transport computer model was used to help determine the possible origin of the plume and the effectiveness of various purge well combinations. Finally, several cleanup alternatives were identified and discussed.

Following the 1982 removal action, the Coast Guard also contracted and supervised additional groundwater investigations complementing those conducted earlier by the MDNR to aid in the planning of a long term response. Results of these investigations concluded the following:

• A plume of contamination was found stretching from near the Hanger/Administration (HA) building on the Coast Guard Property to East Bay. It was approximately 4300 feet long and from 180 to 400 feet wide. Hydrocarbon spectra of the contamination were consistent with that of 115/145 aviation gasoline. Major components were benzene, toluene and xylene with a maximum concentration of 3640 μg/l, 553000 μg/l and 5410 μg/l, respectively.

• An additional contaminant plume was discovered on the Coast Guard property with parent origin near the Coast Guard's fueling station. Around the fueling station several inches of pure JP-4 jet fuel product were found floating on the water table.

• A third contaminant plume was found along the Coast Guard's south fence line up-gradient from the fuel farm area. Possible origins include a 1979 Republic Airlines jet fuel spill and various underground storage tanks in the area that had since been removed.

• The contaminants were located in a sandy aquifer of high permeability. Groundwater flow is to the northeast with a velocity of approximately five feet per day.

• A probable source of the original plume was a fuel spill in 1969 at the Coast Guard base in which about 2500 gallons of aviation gasoline leaked into the ground at a fuel station located under the northwest corner of the new HA building. The second plume may have originated from leaking JP4 fuel tanks at the current fuel station.

To mitigate adverse effects discovered during the investigation, interim responses were implemented. In addition to providing city water connections to affected residents in the Avenue E area, the USCG also installed and operated interdiction and purge systems with treatment capability to prevent additional offsite contaminant migration and removed and/or repaired tanks at the Coast Guard fueling station. In addition to the investigation of groundwater, the USGS and the University of Michigan (UM) reported numerous measurements of organics in the soils at the Coast Guard Air Station. The UM study found maximum concentrations of 25.4 μg/g benzene, 27.6 μg/g toluene, and 229 μg/g xylene. Analyses were made for seven other hydrocarbons with negative results. Soil borings indicate that much of the organic material was adsorbed on the soil in a 6” to 12” thick layer in the capillary zone immediately above the water table. The UM suggested that this zone was slowly leaking organic contaminants into the groundwater over time and was serving as a source for the plume.

Record of Decision Findings

There was no Record of Decision (ROD) for this site. In 1987, an agreement between the State of Michigan and the USCG was negotiated. USCG agreed to pay the cost of implementing the cleanup of contamination emanating from the USCG air station. All clean up activities associated with the Ave E site were conducted as part of this Settlement agreement.

Characterization of Remaining Risk

The municipal water supply system serving the East Bay township residences and business currently meets federal and state drinking water standards and is safe for human consumption. The source of the township's municipal water system is groundwater wells located in East Bay Township and monitored every three years. The wells used to supply water to East Bay Township are quite a distance up-gradient of the Coast Guard Facility, and the monitoring frequency for these wells is adequate.

Currently, soil vapor intrusion is not considered a possible problem at the Site. Down gradient monitoring wells placed along Avenue E in the residential area where the plume was traced, have found no detectable levels of contaminants of concern associated with the USCG plume.

Response Actions

In 1987, an agreement between the State of Michigan and the USCG was negotiated. USCG agreed to pay the cost of implementing the cleanup of contamination emanating from the site. The cleanup involved extraction and treatment of contaminated groundwater. Some of the other remedial actions included enhanced biodegradation using hydrogen peroxide and nitrates to reduce plume contaminates. The USCG also implemented groundwater sparging with vapor extraction, venting with vapor extraction, soil venting, natural attenuation and surfactant injection and extraction. All of these additional remedial measures helped to reduce the contaminant source in the soil and speed treatment of the groundwater through the pump and treatment system. The contaminated groundwater was treated by activated carbon prior to discharge to the Traverse City Sewer system. By 1996, the contaminant levels rarely exceeded the cleanup criteria stipulated in the 1987 settlement agreement. In 1999, the wells remained clean.

A Preliminary Closeout Report (PCOR) was completed by U.S. EPA in September 2000. The purpose of the PCOR was to document that all construction activity had been completed at the Site.

Institutional Controls

There were no provisions for institutional controls in any of the agreements associated with the clean up and monitoring of this site as the groundwater was to be remediated to unrestricted use.

Cleanup Standards

The cleanup standards in the 1987 Settlement Agreement were designed to meet the contaminant levels for benzene, tetrachloroethylene and trichloroethylene as required by the State of Michigan (MDNR), based on acceptable standards in place at the time the Settlement Agreement was issued. This was an agreement between the MDNR and USCG. If these standards were not met, then additional measures would be taken. This Site is being deleted because the remedial response met all cleanup standards outlined in the 1987 Settlement Agreement.

Operation and Maintenance

USCG has completed monitoring groundwater at the site in accordance with the Settlement Agreement between the State of Michigan and the USCG filed on June 1, 1987. Per the Settlement Agreement with the State of Michigan, the USCG operated two interdiction fields (pump and treatment systems). There was one at the North of the base and one at the South of the base. They consisted of wells IN2, IN3, IN4, IN5, and IN6 in the North field (avgas plume) and PP5, PP7, and PP8 in the South Field (JP-4 field). Each interdiction point had point of compliance wells along the USCG property boundary. The North field point of compliance wells were M56, M1, M4, M3, and M55. The South field point of compliance wells were M22, M61, M62, and M64. There were a number of other wells installed over the course of the project for various reasons. In 2000, with consent of MDEQ, the USCG removed wells PP5, PP6, PP7 and PP8. In 2001, with the consent of MDEQ, wells IN2, IN3, IN4, IN5 and IN6 were removed along with the associated piping, manifolds, carbon treatment units, and discharge lines for both the North and South interdiction fields. The remaining monitoring wells will be removed after the 10 year post closure period. The post closure period started in October 2005.

Five-Year Review

EPA conducted a five-year review of the Site in 2005. In the review, EPA concluded that all remedial actions are complete and monitoring indicates that all clean up goals have been reached in connection with the 1987 Settlement Agreement. Therefore, no future five-year review, are required for this Site.

Community Involvement

Public participation activities have been satisfied as required in CERCLA section 113(k), 42 U.S.C. 9613(k), and CERCLA section 117, 42 U.S.C. 9617. Documents in the deletion docket which EPA relied on for recommendation of the deletion of this Site from the NPL are available to the public in the information repositories, and in http://www.regulations.gov.

V. Deletion Action

The EPA, with concurrence of the State of Michigan, determined that all appropriate responses under CERCLA have been completed, and that no further response actions under CERCLA are necessary. Therefore, EPA is deleting the Site from the NPL.

Because EPA considers this action to be non-controversial and routine, EPA is taking it without prior publication. This action will be effective March 20, 2007 unless EPA receives adverse comments by February 20, 2007. If adverse comments are received within the 30-day public comment period, EPA will publish a timely withdrawal of this direct final notice of deletion before the effective date of the deletion and it will not take effect. EPA will prepare a response to comments and, as appropriate, continue with the deletion process on the basis of the notice of intent to delete and the comments already received. There will be no additional opportunity to comment.

List of Subjects in 40 CFR Part 300

Environmental protection, Air pollution control, Chemicals, Hazardous waste, Hazardous substances, Intergovernmental relations, Penalties, Reporting and record keeping requirements, Superfund, Water pollution control, Water supply.

Dated:January 9, 2007.
Mary A. Gade,
Regional Administrator, U.S. EPA Region V.

For the reasons set out in this document, 40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp., p.351; E.O. 12580, 52 FR 2923, 3 CFR, 1987 Comp., p.193.

Appendix B—[Amended]

2. Table 1 of Appendix B to Part 300 is amended under “MI” by removing the entry for “Avenue E Groundwater Contamination” and the city “Traverse City.”

[FR Doc. E7-694 Filed 1-18-07; 8:45 am]

BILLING CODE 6560-50-P